DEPARTMENT OF ENERGY

Federal Energy Regulatory Commission

Combined Notice of Filings #1

Take notice that the Commission received the following electric rate filings:

Docket Numbers: ER10-1763-003; ER10-1765-003; ER10-1766-003; ER10-1769-003; ER10-1767-003; ER10-1532-003; ER10-1541-004; ER10-1642-005; ER13-2349-002; ER13-2350-002.

Applicants: Entergy Arkansas, Inc., Entergy Louisiana, LLC, Entergy Mississippi, Inc., Entergy New Orleans, LLC, Entergy Texas, Inc., Entergy Nuclear Palisades, LLC, Entergy Power, LLC, EWO Marketing, LLC, EAM Nelson Holding, LLC, RS Cogen, LLC, Entergy Services, Inc.

Description: Triennial Market Power Update for the Central Region of the Entergy MBR Utilities.

Filed Date: 12/28/17.

Accession Number: 20171228-5275.

Comments Due: 5 p.m. ET 2/26/18.

Docket Numbers: ER10-1819-017; ER10-1820-020.

Applicants: Northern States Power Company, a Minnesota corporation, Northern States Power Company, a Wisconsin corporation

Description: Triennial Market Power Analysis of Northern States Power Company, a Minnesota corporation, and Northern States Power Company, a Wisconsin corporation.

Filed Date: 12/28/17.

Accession Number: 20171228-5269.

Comments Due: 5 p.m. ET 2/26/18.

Docket Numbers: ER10-2042-025; ER10-1945-006; ER10-1942-017; ER17-696-005; ER10-1938-020; ER10-1934-019; ER10-1893-019; ER10-2985-023; ER10-3049-024; ER10-3051-024; ER10-1871-006; ER11-4369-004; ER16-2218-004; ER10-1862-019.

Applicants: Calpine Energy Services, L.P., Auburndale Peaker Energy Center, LLC, Calpine Construction Finance Company, LP, Calpine Energy Solutions, LLC, Calpine PowerAmerica—CA, LLC, CES Marketing IX, LLC, CES Marketing X, LLC, Champion Energy Marketing LLC, Champion Energy Services, LLC, Champion Energy, LLC, Morgan Energy Center, LLC, North American Power and Gas, LLC, North American Power Business, LLC, Power Contract Financing, L.L.C.

Description: Updated Market Power Analysis for the Calpine Southeast MBR Sellers.

Filed Date: 12/29/17.

Accession Number: 20171229-5161.

Comments Due: 5 p.m. ET 2/27/18.

Docket Numbers: ER10-2063-002.

Applicants: Otter Tail Power Company.

Description: Triennial MBR Report for Central Region of Otter Tail Power Company.

Filed Date: 12/28/17.

Accession Number: 20171228-5302.

Comments Due: 5 p.m. ET 2/26/18.

Docket Numbers: ER10-2211-006.

Applicants: Vandolah Power Company, L.L.C.

Description: Triennial MBR Report for Southeast Region of Vandolah Power Company, L.L.C.

Filed Date: 12/29/17.

Accession Number: 20171229-5117.

Comments Due: 5 p.m. ET 2/27/18.

Docket Numbers: ER10-2739-018; ER10-2743-013; ER12-995-005; ER10-1892-007; ER10-2793-007; ER10-2755-016; ER16-1652-006; ER10-1872-007; ER10-2751-013; ER10-1859-007.

Applicants: LS Power Marketing, LLC, Bluegrass Generation Company, L.L.C., Cherokee County Cogeneration Partners, LLC, Columbia Energy LLC, DeSoto County Generating Company, LLC, Las Vegas Power Company, LLC, LifeEnergy, LLC, Mobile Energy LLC, Renaissance Power, L.L.C., Santa Rosa Energy Center, LLC.

Description: Updated Market Power Analysis of the LS Southeast MBR Sellers.

Filed Date: 12/29/17.

Accession Number: 20171229-5186.

Comments Due: 5 p.m. ET 2/27/18.

Docket Numbers: ER10-2877-002.

Applicants: Cobb Electric Membership Corporation.

Description: Triennial Market Power Update for the Central Region of Cobb Electric Membership Corporation.

Filed Date: 12/29/17.

Accession Number: 20171229-5158.

Comments Due: 5 p.m. ET 2/27/18.

Docket Numbers: ER10-3125-011; ER10-3102-011; ER15-1447-003; ER10-3100-011; ER15-1657-006; ER10-3107-011; ER10-3109-011.

Applicants: AL Sandersville, LLC, Effingham County Power, LLC, Mid-Georgia Cogen L.P., MPC Generating, LLC, SEPG Energy Marketing Services, LLC, Walton County Power, LLC, Washington County Power, LLC.

Description: Updated Market Power Analysis for the Southeast Region of AL Sandersville, LLC, et al.

Filed Date: 12/29/17.

Accession Number: 20171229-5156.

Comments Due: 5 p.m. ET 2/27/18.

Docket Numbers: ER17-2457-002.

Applicants: Rock Creek Wind Project, LLC.

Description: Notice of Non-Material Change in Status of Rock Creek Wind Project, LLC.

Filed Date: 12/29/17.

Accession Number: 20171229-5113.

Comments Due: 5 p.m. ET 1/19/18.

Docket Numbers: ER17-2577-001.

Applicants: York Haven Power Company, LLC.

Description: Tariff Amendment: Response to AIR to be effective 11/29/2017.

Filed Date: 12/28/17.

Accession Number: 20171228-5261.

Comments Due: 5 p.m. ET 1/18/18.

Docket Numbers: ER18-560-000.

Applicants: Northern Indiana Public Service Company.

Description: Market-Based Triennial Review Filing: NIPSCO Triennial Market Power Update to be effective 12/29/2017.

Filed Date: 12/28/17.

Accession Number: 20171228-5254.

Comments Due: 5 p.m. ET 2/26/18.

Docket Numbers: ER18-561-000.

Applicants: Wisconsin Public Service Corporation.

Description: § 205(d) Rate Filing: Revision to Ancillary Services Tariff to be effective 2/26/2018.

Filed Date: 12/28/17.

Accession Number: 20171228-5260.

Comments Due: 5 p.m. ET 1/18/18.

Docket Numbers: ER18-562-000.

Applicants: NorthWestern Corporation.

Description: § 205(d) Rate Filing: SA 605 7th Rev—NITSA with Bonneville Power Administration to be effective 3/1/2018.

Filed Date: 12/28/17.

Accession Number: 20171228-5264.

Comments Due: 5 p.m. ET 1/18/18.

Docket Numbers: ER18-563-000.

Applicants: Red Pine Wind Project, LLC.

Description: § 205(d) Rate Filing: Filing of Red Pine Rate Schedule FERC No. 1 re Reactive Power Compensation to be effective 3/1/2018.

Filed Date: 12/28/17.

Accession Number: 20171228-5265.

Comments Due: 5 p.m. ET 1/18/18.

Docket Numbers: ER18-564-000.

Applicants: South Central MCN LLC.

Description: Compliance filing: SCMCN Limited 205 DX Filing to be effective N/A.

Filed Date: 12/28/17.

Accession Number: 20171228-5266.

Comments Due: 5 p.m. ET 1/18/18.

Docket Numbers: ER18-565-000.

Applicants: California Independent System Operator Corporation.

Description: Petition for Approval of Disposition of Proceeds of Penalty Assessments of California Independent System Operator Corporation.

Filed Date: 12/28/17.

Accession Number: 20171228-5273.

Comments Due: 5 p.m. ET 1/18/18.

Docket Numbers: ER18-566-000.

Applicants: Midcontinent Independent System Operator, Inc., Otter Tail Power Company.

Description: § 205(d) Rate Filing: 2017-12-29_SA 3077 OTP-East River T-T (Britton) to be effective 1/1/2018.

Filed Date: 12/29/17.

Accession Number: 20171229-5013.

Comments Due: 5 p.m. ET 1/19/18.

Docket Numbers: ER18-567-000.

Applicants: Midcontinent Independent System Operator, Inc., Otter Tail Power Company.

Description: § 205(d) Rate Filing: 2017-12-29_SA 3076 OTP-East River T-T (Load) to be effective 1/1/2018.

Filed Date: 12/29/17.

Accession Number: 20171229-5016.

Comments Due: 5 p.m. ET 1/19/18.

Docket Numbers: ER18-568-000.

Applicants: Mid-Atlantic Interstate Transmission, LLC, American Transmission Systems, Incorporation, PJM Interconnection, L.L.C.

Description: § 205(d) Rate Filing: MAIT and ATSI submit Two ECSAs SA Nos. 4801 and 4860 to be effective 3/1/2018.

Filed Date: 12/29/17.

Accession Number: 20171229-5018.

Comments Due: 5 p.m. ET 1/19/18.

Docket Numbers: ER18-569-000.

Applicants: Consolidated Edison Company of New York, Inc.

Description: § 205(d) Rate Filing: 2017 RY 2 to be effective 1/1/2018.

Filed Date: 12/29/17.

Accession Number: 20171229-5019.

Comments Due: 5 p.m. ET 1/19/18.

Docket Numbers: ER18-570-000.

Applicants: Consolidated Edison Company of New York, Inc.

Description: § 205(d) Rate Filing: 2017 WDS RY 2 to be effective 1/1/2018.

Filed Date: 12/29/17.

Accession Number: 20171229-5020.

Comments Due: 5 p.m. ET 1/19/18.

Docket Numbers: ER18-571-000.

Applicants: Southwest Power Pool, Inc.

Description: § 205(d) Rate Filing: Attachment AE Revisions to Clarify ILTCRs to be effective 2/27/2018.

Filed Date: 12/29/17.

Accession Number: 20171229-5026

Comments Due: 5 p.m. ET 1/19/18.

Docket Numbers: ER18-572-000.

Applicants: South Central MCN LLC.

Description: Limited Revisions to SPP Transmission Formula Rate Template of South Central MCN LLC.

Filed Date: 12/28/17.

Accession Number: 20171228-5306.

Comments Due: 5 p.m. ET 1/18/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 29, 2017.
Nathaniel J. Davis, Sr.,
Deputy Secretary.

[FR Doc. 2018-00124 Filed 1-5-18; 8:45 am]

BILLING CODE 6717-01-P